Proclamation 8565 of September 17, 2010

National Farm Safety and Health Week, 2010

By the President of the United States of America

A Proclamation

Every day, the lives of Americans are touched by the hard work and dedication of our Nation’s farmers, ranchers, and farmworkers. The food they produce through their tireless efforts fuels our Nation, nourishes our bodies, and sustains millions at home and around the globe. As we celebrate National Farm Safety and Health Week, we recognize the tremendous contributions of these individuals and rededicate ourselves to ensuring their safety and health at all times.

Our farmers, ranchers, farmworkers, horticultural workers, and their families and communities are among the most productive in the world. Our agriculture industry employs only a tiny percentage of the United States workforce, yet its yield is worth billions of dollars a year and supports the growth and development of the American economy. Agricultural producers are stewards of our natural resources and precious open spaces, and they are playing a key role in developing renewable energy and moving America towards energy independence.

To safely continue this important work, those in the agriculture sector must take special precautions in their daily tasks. Despite the great advancements in modern agriculture, farming remains a labor-intensive and sometimes dangerous occupation. America’s agricultural producers work in harsh weather conditions, handle dangerous chemicals and materials, and operate large machinery and equipment. I encourage these individuals and their families to conduct regular training on respiratory protection; proper handling and usage of pesticides and other hazardous materials; the inspection, maintenance, and safe operation of machinery and other equipment; and emergency response and rescue procedures. Additionally, farms and ranches with children or novice farmers should receive proactive health and safety instruction to prevent injury or illness.

By working together to ensure the highest standards of health and safety for our agricultural producers, we will build upon this vital industry and its contributions to make our Nation stronger, more secure, and more prosperous in the years to come.

NOW, THEREFORE, I, BARACK OBAMA, President of the United States of America, by virtue of the authority vested in me by the Constitution and the laws of the United States, do hereby proclaim September 19 through September 25, 2010, as National Farm Safety and Health Week. I call upon the agencies, organizations, businesses, and extension services that serve America’s agricultural workers to strengthen their commitment to promoting farm safety and health programs. I also urge Americans to honor our agricultural heritage and express appreciation to our farmers, ranchers, and farmworkers for their remarkable contributions to our Nation.

IN WITNESS WHEREOF, I have hereunto set my hand this seventeenth day of September, in the year of our Lord two thousand ten, and of the Independence of the United States of America the two hundred and thirty-fifth.

[FR Doc. 2010-24096

Filed 9-22-10; 11:15 am]

Billing code 3195-W0-P